SMALL BUSINESS ADMINISTRATION

[Disaster Declaration #14089 and #14090]

Washington Disaster Number WA-00049

AGENCY: U.S. Small Business Administration.

ACTION: Amendment 1.

SUMMARY: This is an amendment of the Presidential declaration of a major disaster for Public Assistance Only for the State of WASHINGTON (FEMA-4188-DR), dated 08/11/2014.

Incident: Wildfires.

Incident Period: 07/09/2014 through 08/05/2014.

Effective Date: 09/12/2014.

Physical Loan Application Deadline Date: 10/10/2014.

Economic Injury (EIDL) Loan Application Deadline Date: 05/11/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of WASHINGTON, dated 08/11/2014, is hereby amended to include the following areas as adversely affected by the disaster.

Primary Counties: Kittitas.

All other information in the original declaration remains unchanged.

(Catalog of Federal Domestic Assistance Numbers 59002 and 59008)

James E. Rivera,
Associate Administrator for Disaster Assistance.

[FR Doc. 2014-22519 Filed 9-19-14; 8:45 am]

BILLING CODE 8025-01-P